DEPARTMENT OF HEALTH AND HUMAN SERVICES

National Institutes of Health

Proposed Collection; 60-Day Comment Request: Cardiovascular Health and Needs Assessment in Washington, DC—Development of a Community-Based Behavioral Weight Loss Intervention

Summary: In compliance with the requirement of Section 3506(c)(2)(A) of the Paperwork Reduction Act of 1995, for opportunity for public comment on proposed data collection projects, the National Heart, Lung and Blood Institute (NHLBI), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact either: Eric Shropshire, Outreach & Research Coordinator, or Dr. Tiffany Powell-Wiley, Assistant Clinical Investigator, CPB, DIR, NHLBI, NIH, 10 Center Drive, Building 10-CRC, 5-3340,, Bethesda, MD 20892, or call non-toll-free number Eric Shropshire, (301) 827-4981-5579 or Dr. Powell-Wiley, (301) 594-3735, or Email your request, including your address to either Eric.Shropshire@nih.gov or Tiffany.Powell-Wiley@nih.gov. Formal requests for additional plans and instruments must be requested in writing.

Comment Due Date: Comments regarding this information collection are best assured of having their full effect if received within 60 days of the date of this publication.

Proposed Collection: Cardiovascular Health and Needs Assessment in Washington, DC—Development of a Community-Based Behavioral Weight Loss Intervention, -New, National Heart, Lung and Blood Institute (NHLBI), National Institutes of Health (NIH).

Need and Use of Information Collection: The purpose and use of the information collection for this project is to determine the prevalence of ideal, intermediate, and poor cardiovascular health factors based on American Heart Association (AHA)-defined goals within a church-based population in wards 5, 7, and 8 in Washington, DC. The information collected will also evaluate data from handheld devices, such as wearable physical activity monitors or digital cameras, to objectively measure physical activity and dietary intake from selected community members. This protocol will then identify technology that may be incorporated into future interventions. In addition, the collected information used will be examined for methods of referral for treatment for unrecognized hypertension, diabetes, and hypercholesterolemia in the community-based population. Social determinants of obesity, particularly environmental, cultural, and psychosocial factors that might help or hinder weight loss, will be evaluated in the population. This information from the screening and needs assessment will establish a CBPR partnership for the future design and implementation of a church-based, behavioral weight loss intervention.

OMB approval is requested for 2 years. There are no costs to respondents other than their time. The total estimated annualized burden hours are 2,380.

Estimated Annualized Burden Hours
A.12—1 Estimates of Hour Burden: Type of respondents | A.12—1 Estimates of Hour Burden: Number of respondents | A.12—1 Estimates of Hour Burden: Frequency of response | A.12—1 Estimates of Hour Burden: Average time per response | A.12—1 Estimates of Hour Burden: Annual hour burden
Consent Process | 100 | 1 | 15/60 | 25
Clinical Evaluation | 100 | 1 | 30/60 | 50
Survey Instrument | 100 | 1 | 1 | 100
Device Training | 100 | 2 | 1 | 200
Health Data Monitoring | 100 | 2 | 10 | 2,000
Device Return | 15 | 1 | 18/60 | 5

Dated: December 18, 2013.
Robert S. Balaban,
Scientific Director, DIR, NHLBI, NIH.
Dated: December 23, 2013.
Lynn Susulske,
NHLBI Project Clearance Liaison, National Institutes of Health.

[FR Doc. 2013-31430 Filed 12-31-13; 8:45 am]

BILLING CODE 4140-01-P